DEPARTMENT OF LABOR

Employment and Training Administration

TA-W-39,060

Ludlow Coated Products, Ludlow Building Products Adrian, MI; Notice of Termination of Investigation

Pursuant to section 221 of the Trade Act of 1974, an investigation was initiated on April 16, 2001, in response to a worker petition which was filed on behalf of workers at Ludlow Coated Products, a/k/a Ludlow Building Products, Adrian, Michigan.

Workers at the subject firm were denied eligibility under TA-W-39,059, issued on April 20, 2001. The TA-W-39,060 investigation was inadvertently assigned to exactly the same petition and is thus a duplicate. Conducting a duplicate, and thus redundant, investigation would serve no purpose, and the investigation has been terminated.

Signed in Washington, DC, this 29th day of August, 2001.
Linda G. Poole,
Certifying Officer, Division of Trade Adjustment Assistance.

[FR Doc. 01-22685 Filed 9-10-01; 8:45 am]

BILLING CODE 4510-30-M